DEPARTMENT OF TRANSPORTATION

Federal Motor Carrier Safety Administration

[Docket No. FMCSA-2014-0133]

Agency Information Collection Activities; New Information Collection Request: State Commercial Driver's License Program Plan

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invites public comment. The FMCSA requests approval of a new ICR titled, “State Commercial Driver's License Program Plan,” as a result of requirements from Section 32305 of the Moving Ahead for Progress in the 21st Century Act (MAP-21), Public Law 112-141, dated July 6, 2012. The Act requires States to submit a plan to the Secretary describing the actions the State will take to address any deficiencies in the State's commercial driver's license (CDL) program, as identified by the Secretary in the most recent audit of the program. This ICR is needed to ensure that the States are complying with notification and recordkeeping requirements for information related to testing, licensing, violations, convictions and disqualifications and that the information is accurate, complete and transmitted and recorded within certain time periods as required by the Commercial Motor Vehicle Safety Act of 1986 (CMVSA), as amended.

DATES: Please send your comments by June 29, 2015. OMB must receive your comments by this date in order to act quickly on the ICR.

ADDRESSES: All comments should reference Federal Docket Management System (FDMS) Docket Number FMCSA-2014-0133. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Mr. Michael Gordon, Office of State Programs, Commercial Driver's License Division (MC-ESL),, Federal Motor Carrier Safety Administration, West Building 6th Floor, 1200 New Jersey Avenue SE., Washington, DC 20590. Telephone: 304-549-2651; email michael.gordon2@dot.gov. Office hours are from 9 a.m. to 5 p.m., Monday through Friday, except Federal Holidays.

SUPPLEMENTARY INFORMATION:

Title: State Driver's License Program Plan.

OMB Control Number: 2126-00XX.

Type of Request: New collection.

Respondents: State Driver Licensing Agencies (SDLAs).

Estimated Number of Respondents: 51 State respondents.

Estimated Time per Response: 40 hours per SDLA.

Expiration Date: N/A. New collection.

Frequency of Response: One-time effort.

Estimated Total Annual Burden: 2,040 hours.

FMCSA estimates that each SDLA would need approximately 40 hours to complete the State Commercial Driver's License Program Plan and submit it to FMCSA. The Program Plan is completed on a one-time basis as required by Section 32305 of MAP-21. There is no continuing information collection function associated with submitting this Program Plan. The Program Plan asks for information which is readily available to the filer.

For the purposes of the CDL program, the District of Columbia is considered a State. Therefore, there are 51 State responses with an estimated 40 hours per response to complete and submit the Program Plan to FMCSA.

The FMCSA estimates the SDLAs total annual burden is 2,040 hours (51 responses × 40 hours = 2,040 hours).

Background: The FMCSA is responsible for compliance and oversight of SDLAs. SDLAs are required to comply with the requirements of 49 CFR part 384, titled “State Compliance with Commercial Driver's License Program.” Section 32305 of MAP-21 amends 49 U. S.C. 31311 by adding paragraph (d) State Commercial Driver's License Program Plan requirements. In paragraph (d)(1), a State shall submit a plan to the Secretary of Transportation for complying with the requirements under this section during the period beginning on the date the plan is submitted and ending on September 30, 2016. In paragraph (d)(2), a plan submitted by a State under paragraph (d)(1) shall identify—(A) the actions that the State will take to address any deficiencies in the State's Commercial Driver's License Program, as identified by the Secretary in the most recent audit of the program; and (B) other actions that the State will take to comply with the requirements under subsection (a). Paragraph (d)(3) establishes the following: “(A) Implementation Schedule—A plan submitted by a State under paragraph (d)(1) shall include a schedule for the implementation of the actions identified under paragraph (d)(2). In establishing the schedule, the State shall prioritize actions to address any deficiencies highlighted by the Secretary as critical in the most recent audit of the program. (B) Deadline for Compliance with the requirements.—A plan submitted by a State under paragraph (1) shall include assurances that the State will take the necessary actions to comply with the requirements of subsection (a) not later than September 30, 2015.

This collection of information supports the DOT strategic goal of safety by requiring the States to assure that drivers of CMVs are properly licensed according to all applicable Federal requirements. States will be required to complete a Commercial Driver's License Program Plan using a spreadsheet or pdf document that will be provided by FMCSA to each SDLA. The spreadsheet has been placed in the FMCSA docket and is available for immediate public consideration at the location http://www.regulations.gov/#!documentDetail;D=FMCSA-2014-0133-0007 as item 7. The plan will be completed by the State and provided to FMCSA's CDL Division via the Automated Compliance Review System (ACRS), for review and concurrence. FMCSA may reject a State's Commercial Driver's License Program Plan if it is determined to be deficient by not adequately addressing the State's deficiencies and/or assurances. Within the plan, the State will identify any deficiencies from the most recent audit and will be required to provide detailed information to demonstrate how the State will obtain compliance with the Section 32305 of MAP-21 requirement to be in compliance with the CDL Regulations by September 30, 2015, and remain in compliance through September 30, 2016. This will enable FMCSA to determine a State's level of compliance with the CDL requirements. Previous to Section 32305 of MAP-21, there was no requirement for a SDLA to submit a Commercial Driver's License Program Plan.

The spreadsheet was developed by FMCSA. The spreadsheet will be sent to each SDLA. The SDLA will complete the spreadsheet and send directly to FMCSA via electronic transmission. FMCSA will then review each plan to assess each State's level of compliance with the CDL requirements. The spreadsheets will then be uploaded into FMCSA's ACRS. Appropriate feedback will be provided from MC-ESL to each State after review.

Comments From the Public

General Summary

FMCSA received four comments to the 60-day Federal Register notice published on November 13, 2014 (79 FR 67540) regarding the Agency's Information Collection Activities; New Information Collection: State Commercial Driver's License Program Plan. Comments were received from the Nebraska Department of Motor Vehicles, New York Department of Motor Vehicles, Colorado Department of Revenue, and North Carolina Department of Transportation. Comments and responsive considerations are as follows:

The Nebraska Department of Motor Vehicles commented that the proposed rule indicates that States will be required to complete a Commercial Driver's License Program Plan using a spreadsheet or pdf document that will be provided by FMCSA to each SDLA. The Plan will be completed by the State and provided to FMCSA's Division via the Automated Compliance Review System (ACRS), for review and concurrence. The Nebraska DMV recommends that the desired information be placed on ACRS for entry by the SDLA in lieu of the paper spreadsheet or pdf document being used. The proposed rule states that FMCSA estimates that each SDLA would need approximately 40 hours to complete the State Commercial Driver's License Program Plan. The Nebraska DMV already spends an inordinate amount of time working on CDL federal requirements. The Nebraska DMV questions the value of a spreadsheet that takes 40 hours to complete as SDLAs have other responsibilities besides the CDL Program. Quantity does not necessarily equate to quality. The proposed rule says that the spreadsheet was developed by FMCSA. However, it is not attached to this proposed rule. The Nebraska DMV suggests that the SDLAs be allowed to comment on the information being gathered and the tool used to gather the information. This promotes a better understanding by the SDLAs in knowing what is needed, why it is needed and may after comments, help FMCSA reduce duplication of information, and understand why the spreadsheet may not be relevant or needed. It is difficult to provide feedback and comments on a document sight unseen.”

The FMCSA agrees with Nebraska's recommendation that the ACRS should be utilized to its fullest capacity to complete the State Plan. The spreadsheet has been placed in the FMCSA docket and is available for immediate public consideration at the location http://www.regulations.gov/#!documentDetail;D=FMCSA-2014-0133-0007 as item 7. FMCSA's intention is to utilize ACRS to deliver the final version of the spreadsheet to each SDLA. The SDLA will be able to download, complete and sign the document and re-upload via the ACRS State Plans function. ACRS's functionality prevents the use of the system to complete a State Plan within ACRS.

The FMCSA does not expect it to take 40 hours for each CDL Coordinator to complete the spreadsheet. The estimation was based upon the differences in complexities and extent of compliance deficiencies, the various 51 SDLAs have in regards to the number of existing compliance findings. This estimation is also based upon the consideration that a new CDL Coordinator with limited experience may be completing the spreadsheet. In creating the spreadsheet, FMCSA took into consideration the demands being placed upon the SDLAs and attempted to implement the most efficient and least demanding process to meet the Section 32305 of MAP-21 requirement.

The New York Department of Motor Vehicles stated opinion is that the ICR is unnecessary for the performance of FMCSA's functions in that the information requested to be collected from the Commercial Driver's License Program Plan is already made available to FMCSA via the ACRS System. New York has maintained updates to our audits and annual program review action plans and fails to understand why FMCSA needs states to duplicate information that is already supplied to them.

The New York DMV also commented on the Section 32305 of MAP-21 compliance date of September 30, 2015. New York stated while it is working diligently towards that goal, the deadline is unrealistic, considering the many obstacles New York and the other states face. New York does not understand why a deadline is even essential, in that all of New York's Action Plans listed on ACRS include our estimated completion dates for each project. With FMCSA changing from a 3 year CDL Program Review to an annual review, deficiencies are discovered earlier and therefore, corrected earlier, helping the states to achieve compliance. Over the last six years, FMCSA has published two major rulemakings and numerous smaller rulemakings related to the CDL Program. FMCSA has indicated that more Final rulemakings are to be published within the year. Due to strained fiscal circumstances states have scarce resources, making it difficult to implement the significant number of changes in order to fully comply with all the federal requirements by the regulatory deadline. Both New York's ITS staff that maintain our CDL programs and the DMV business units that administer the programs are severely challenged in complying with the complexity and enormity of federal regulation. At the same time, such staff must continue to serve our many clients, including eleven and a half million licensed drivers, a half million of which hold a CDL. The complexity of the CLP rule is reflected in the monthly CLP Permit Rule Roundtable, where states and the FMCSA discuss issues and concerns about the rule. FMCSA continues to modify its interpretation of the rule. Which causes implementation delays for the states. New York would like to petition for the elimination of a deadline for full State compliance, or if one absolutely needs to be established, an extension of the September 30, 2015, full compliance date, for at a minimum, another year (September 30, 2016). New York is dedicated to fulfilling all the necessary requirements needed to obtain full compliance and we are reiterating that our mission is to make our highways safe for all drivers and for all types of operations. The elimination or extension of the deadline would allow more time for states to ensure the accuracy of all final programming and procedural changes.

The FMCSA notes that the State Plan is in response to the mandated Section 32305 of MAP-21 requirement. The FMCSA understands the information contained within ACRS. This approach and the spreadsheet were developed in such a manner as to not require a State to provide duplicative information that already exists within ACRS, but only reference it. This approach allows the State to provide the assurances required by Section 32305 of MAP-21, that the State will remain in compliance through September 30, 2016.

The FMCSA did not set the deadline for September 30, 2015. This was a Section 32305 of MAP-21 requirement. The FMCSA understands that States have existing action plans that have been approved by FMCSA in ACRS. As previously stated FMCSA has attempted to mitigate redundant work by a State. The FMCSA has created a spreadsheet that allows a State to refer to an existing (approved) action plan within ACRS when referring to a deficiency or finding. The spreadsheet will meet the additional Section 32305 of MAP-21 requirement for a State to provide assurances that they will remain in compliance through September 30, 2016. The FMCSA understands and appreciates the many demands that recent rulemaking have placed upon the states.

The Colorado Department of Revenue stated that it wholeheartedly appreciates and supports FMCSA's mission of promoting highway safety, preventing accidents and getting the bad driver off the road. Colorado also, within reason, agrees with FMCSA's approach of making each SDLA responsible for their individual CDL program. However, within this proposal there are some concerns. Colorado is concerned that there is no disclosure of what will be contained in the proposed spreadsheet. Additionally, regarding data accuracy there is no indication as to what level of error constitutes a compliance issue. Colorado feels that there should be an opportunity to comment on all information that will be contained in the proposed spreadsheet and what will meet compliance and what will not. Moving forward, Colorado would like a better understanding as to the relationship between what is contained in the proposed spreadsheet and the Annual Performance Review (APR). Will both documents still be required and will they be done at the same time? Colorado would also like clarification as to whether the 40 hours discussed in the proposed rule also covers time spent completing the APR documents. Colorado would hope that effort to prevent duplicity has been made. Colorado would also like clarification on this remark. The program plan is completed on a one time basis as required by Section 32305 of MAP-21.

There is no continuing information collection function associated with submitting the Program Plan. What does this mean? Overall, to fully comment on this proposal, Colorado would like a better understanding as to what FMCSA is going to require from the SDLAs regarding what is compliance and what a SDLA will have to do to remain or get into compliance and how long they will have to do so.

When developing the spreadsheet to meet the Section 32305 of MAP-21 requirement, FMCSA decided upon an approach that would limit the amount of duplicity and redundancy of the various FMCSA requirements. The spreadsheet has been placed in the FMCSA docket and is available for immediate public consideration at the location http://www.regulations.gov/#!documentDetail;D=FMCSA-2014-0133-0007 as item 7. Specifically, the spreadsheet focuses on each specific section of 49 CFR part 384 and asks the question if the State is in compliance with each requirement? If not, the follow-up question is, does a State have an approved Action Plan within ACRS? If yes, then the State has fulfilled that specific requirement. If not, then the State would have to provide an action plan for each compliance finding or deficiency within the spreadsheet that does not have an approved action plan within ACRS. A finding or deficiency is an instance where the State is not in compliance with a particular part of the regulations. This could be from any number of activities, including an Annual Program or Skills Test Review, a review of a State's data, and operation performance, a comprehensive compliance review, or any other means by which FMCSA may become aware that a State is not in compliance. This particular aspect has not changed by the State Plan requirement, and the publishing of this ICR. The State Plan requirement is not a reoccurring requirement. Section 32305 of MAP-21 required the submittal of a State Plan one time.

The North Carolina Department of Transportation stated that it contends that the requirement to submit the CDL Program Plan is redundant since this information is already available to FMCSA on ACRS. This requirement places an additional burden on the states when efforts are needed most to work toward compliance with the regulations.

The FMCSA has developed the spreadsheet to eliminate redundancy and limit the amount of time and effort for each State to complete and to comply with this requirement. In addition, the Section 32305 of MAP-21 requirement for States to provide assurances that they will remain in compliance through September 30, 2016, is not information that is currently available to FMCSA.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority of 49 CFR 1.87 on: May 18, 2015.
G. Kelly Regal,
Associate Administrator, Office of Research and Information Technology.

[FR Doc. 2015-12856 Filed 5-27-15; 8:45 am]

BILLING CODE 4910-EX-P